POSTAL REGULATORY COMMISSION

[Docket No. C2024-13; Presiding Officer's Ruling No. 7]

Complaint

AGENCY: Postal Regulatory Commission.

ACTION: Notice.

SUMMARY: The Commission is providing notice that a prehearing videoconference is being rescheduled.

DATES: Live WebEx Videoconference: January 23, 2025, at 10 a.m., eastern daylight time, virtual.

FOR FURTHER INFORMATION CONTACT: David A. Trissell, General Counsel, at 202-789-6820.

SUPPLEMENTARY INFORMATION:

I. Procedural Schedule

A prehearing videoconference is currently scheduled to be conducted before the Presiding Officer on January 16, 2025, at 10 a.m. Due to the inability of one of the participants to attend, the prehearing videoconference will be rescheduled to Thursday, January 23, 2025, at 10 a.m.

II. Ruling

1. The prehearing videoconference, scheduled for Thursday, January 16, 2025, is hereby rescheduled to Thursday, January 23, 2025, at 10 a.m..

2. The Secretary shall arrange for publication of this ruling (or abstract thereof) in the Federal Register.

Erica A. Barker,
Secretary.

[FR Doc. 2025-01156 Filed 1-16-25; 8:45 am]

BILLING CODE 7710-FW-P